DEPARTMENT OF THE INTERIOR

U.S. Geological Survey

Scientific Earthquake Studies Advisory Committee

AGENCY: U.S. Geological Survey, Interior.

ACTION: Notice of Meeting.

SUMMARY: Pursuant to Public Law 106-503, the Scientific Earthquake Studies Advisory Committee (SESAC) will hold its next meeting at the Headquarters of the United States Geological Survey at 12201 Sunrise Valley Drive, Reston Virginia 20192. The Committee is comprised of members from academia, industry, and State government. The Committee shall advise the Director of the U.S. Geological Survey (USGS) on matters relating to the USGS's participation in the National Earthquake Hazards Reduction Program.

The Committee will receive reports on the status of activities of the Program and progress toward Program goals and objectives. The Committee will assess this information and provide guidance on the future undertakings and direction of the Earthquake Hazards Program.

Meetings of the Scientific Earthquake Studies Advisory Committee are open to the public.

DATES: March 29, 2012, commencing at 8:30 a.m. and adjourning at Noon on March 30, 2012.

CONTACT: Dr. John Filson, U.S. Geological Survey, MS 905, 12201 Sunrise Valley Drive, Reston, Virginia 20192, (703) 648-6785, jfilson@usgs.gov.

Dated: February 17, 2012.
David Applegate,
Associate Director for Natural Hazards.

[FR Doc. 2012-4712 Filed 2-28-12; 8:45 am]

BILLING CODE P